DEPARTMENT OF TRANSPORTATION

Federal Aviation Administration

Proposed Advisory Circular (AC) 20-FIS-B, Safety and Interoperability Requirements for Initial Domestic Flight Information Service-Broadcast

AGENCY: Federal Aviation Administration (DOT).

ACTION: Notice of availability and request for public comment.

SUMMARY: This notice announces the availability of and requests comments on a proposed Advisory Circular (AC) 20-FIS, Safety and Interoperability Requirements for Initial Domestic Flight Information Service-Broadcast (FIS-B). This proposed AC supports the use of Flight Information Service-Broadcast weather and other aeronautical data link products for enhance situational awareness. In it, we (1) describe a standardized way to identify the data communications operations environment, (2) how to execute an operational hazard assessment, and (3) allocate resulting safety and interoperability requirements for installing FIS-B equipment.

DATES: Comments must be received on or before August 9, 2004.

ADDRESSES: Send all comments on the proposed AC to: Federal Aviation Administration (FAA), Aircraft Certification Service, Aircraft engineering Division, Avionic Systems Branch, AIR-130, 800 Independence Avenue, SW., Washington, DC 20591. Attn: Mr. Kevin Mattison. Or deliver comments to: Federal Aviation Administration, Room 815, 800 Independence Avenue, SW., Washington, DC 20591.

FOR FURTHER INFORMATION CONTACT: Mr. Kevin Mattison, AIR-130, Room 815, Federal Aviation Administration, Aircraft Certification Service, Aircraft Engineering Division, 800 Independence Avenue, SW., Washington, DC 20591. Telephone (202) 385-4636, FAX: (202) 385-4651. Or, via e-mail at: Kevin.mattison@faa.gov.

SUPPLEMENTARY INFORMATION:

Comments Invited

Interested persons are invited to comment on the proposed AC listed in this notice by submitting such written data, views, or arguments as they desire to the above specified address. Comments received on the proposed AC may be examined, before and after the comment closing date, in Room 815, FAA Headquarters Building 800 Independence Avenue, SW., Washington, DC 20591, weekdays except Federal holidays, between 8:30 a.m. and 4:30 p.m. All communications received on or before the closing date will be considered by the Director of the Aircraft Certification Service before issuing the final Advisory Circular.

Background

For many years, the Aircraft Communication Addressing and Reporting (ACARS) has given aircraft operators a means of digitally up-linking weather and National Airspace System (NAS) status information for display in text format. The FAA's goal for FIS in the cockpit is to use digital data link to deliver information to the pilot, and in so doing, improve safety, reduce costs to users and the FAA, and increase the utility, efficiency, and capacity of the NAS. Timely delivery or high quality, accurate, and consistent information is essential for sound operational decisions by pilots, controllers, and dispatchers. As such, the objective of this proposed AC is to give pilots strategic information to help with their in-flight planning before arriving or departing the terminal area.

How To Obtain Copies

You may get a copy of the proposed AC from the Internet at: http://www.airweb.faa.gov/rgl. Once on the RGL Web site, select “Advisory Circular”, then select the document by number. See section entitled For Further Information Contact for the complete address if requesting a copy by mail.

Susan J.M. Cabler,
Assistant Manager, Aircraft Engineering Division, Aircraft Certification Service.

[FR Doc. 04-16106 Filed 7-14-04; 8:45 am]

BILLING CODE 4910-13-M